DEPARTMENT OF STATE

[Public Notice: 12536]

Imposition of Missile Proliferation Sanctions on Three PRC Entities, One PRC Individual, and a Pakistani Entity

ACTION: Notice.

SUMMARY: A determination has been made that three PRC entities, a PRC individual, and a Pakistani entity have engaged in activities that require the imposition of measures pursuant to the Arms Export Control Act, as amended, and the Export Administration Act of 1979, as amended.

DATES: September 12, 2024.

FOR FURTHER INFORMATION CONTACT: Pam Durham, Office of Missile, Biological, and Chemical Nonproliferation, Bureau of International Security and Nonproliferation, Department of State (202-647-4930). On import ban issues, Lauren Sun, Assistant Director for Regulatory Affairs, Department of the Treasury (202-622-4855). On U.S. Government procurement ban issues, Eric Moore, Office of the Procurement Executive, Department of State (703-875-4079). Email: mooreen@state.gov

SUPPLEMENTARY INFORMATION: Pursuant to Section 73(a)(1) of the Arms Export Control Act [22 U.S.C. 2797b(a)(1)]; Section 11B(b)(1) of the Export Administration Act of 1979 [ (50 U.S.C. 4612(b)(1))], as carried out under Executive Order 13222 of August 17, 2001 (hereinafter cited as the “Export Administration Act of 1979”); [Note: Although the Export Administration Act of 1979 lapsed in 2001 and was partially repealed in 2018, authorities under Section 11B continue to be carried out under the International Emergency Economic Powers Act, 50 U.S.C. 1701-1708, pursuant to the emergency declared in Executive Order 13222 of August 17, 2001, which has been kept in effect by successive Presidential Notices, the most recent of which was the Notice of August 13, 2024, 89 FR 66187, (Aug. 15, 2024). End Note], the U.S. Government has determined that the following foreign persons have engaged in missile technology proliferation activities that require the imposition of the sanctions described in Sections 73(a)(2)(A) and (C) of the Arms Export Control Act [22 U.S.C. 2797b(a)(2)(A) and (C)] and Sections 11B(b)(1)(B)(i) and (iii) of the Export Administration Act of 1979 [50 U.S.C. app. 2410b(b)(1)(B)(i) and (iii)] on these entities:

Hubei Huachangda Intelligent Equipment Company (PRC Entity), and its sub-units and successors;

Innovative Equipment (Pakistan Entity), and its sub-units and successors;

Luo Dongmei [aka Steed Luo] (PRC national);

Universal Enterprise Limited [aka General Technology Limited, aka Beijing Luo Luo Tech Development Limited, aka Tiger Force Electronics, aka Foshan Nanhai Winhope Trade Company] (Hong Kong Entity), and its sub-units and successors;

Xi'an Longde Technology Development Company Limited [aka Lontek] (PRC Entity), and its sub-units and successors.

Accordingly, the following sanctions are being imposed on these entities for two years:

(A) Denial for at least two years of all new licenses for the transfer to the sanctioned entities of all Missile Technology Control Regime (MTCR) Annex Items (on both the U.S. Munitions List and Commerce Control List (CCL).

(B) Denial for at least two years of all United States Government contracts relating to MTCR Annex items with the sanctioned entities.

(C) A prohibition on all imports into the United States of products produced by the sanctioned entities for a period of not less than two years

With respect to items controlled pursuant to the ECRA of 2018, the above export sanction only applies to exports made pursuant to individual export licenses.

These measures shall be implemented by the responsible departments and agencies of the United States Government as provided in Executive Order 12851 of June 11, 1993.

Choo S. Kang,
Assistant Secretary for International Security and Nonproliferation, Department of State.

[FR Doc. 2024-20761 Filed 9-11-24; 8:45 am]

BILLING CODE 4710-27-P